TREASURY DEPARTMENT

Bureau of the Public Debt

Senior Executive Service; Combined Performance Review Board (PRB)

AGENCY: Bureau of the Public Debt, Treasury Department.

ACTION: Notice of members of Combined Performance Review Board (PRB).

SUMMARY: Pursuant to 5 U.S.C. 4314(c)(4), this notice announces the appointment of members of the Combined PRB for the Bureau of the Public Debt, the Financial Management Service, the U.S. Mint, and the Bureau of Engraving and Printing. The Board reviews the performance appraisals of career senior executives below the level of bureau head and principal deputy in the four bureaus, except for executives below the Assistant Commissioner level in the Financial Management Service. The Board makes recommendations regarding proposed performance appraisals, ratings, bonuses and other appropriate personnel actions.

Composition of Combined PRB: The Board shall consist of at least three voting members. In case of an appraisal of a career appointee, more than half of the members shall consist of career appointees. The names and titles of the Combined PRB members are as follows:

Primary Members

Frederick A. Pyatt, Assistant Commissioner (Office of Investor Services), BPD.

Scott Johnson, Assistant Commissioner (Management), CFO, FMS.

Jerry Horton, Associate Director, CIO, U.S. Mint.

Joel C. Taub, Associate Director (Management), BEP.

Alternate Members

Cynthia Z. Springer, Assistant Commissioner (Office of Information Technology), BPD.

Judy Tillman, Assistant Commissioner (Financial Operations), FMS.

Gloria Eskridge, Associate Director (Sales and Marketing), U.S. Mint.

Gregory D. Carper, Associate Director, CFO, BEP.

DATES: Membership is effective on October 6, 2003.

FOR FURTHER INFORMATION CONTACT: Frederick A. Pyatt, Assistant Commissioner (Office of Investor Services), Bureau of the Public Debt, 200 Third Street, Parkersburg, WV 26106-1328, (304) 480-7730.

This notice does not meet the Department's criteria for significant regulations.

Frederick A. Pyatt,
Assistant Commissioner (Office of Investor Services), Bureau of the Public Debt.

[FR Doc. 03-25701 Filed 10-9-03; 8:45 am]

BILLING CODE 4810-39-P